Title 3—

The President

Proclamation 10342 of February 28, 2022

American Red Cross Month, 2022

By the President of the United States of America

A Proclamation

Throughout our history, Americans have always stepped up for each other in moments of crisis. This spirit is woven into the fabric of our Nation, and for more than 140 years it has been exemplified by devoted employees, volunteers, and supporters of the American Red Cross. This month, we honor the American Red Cross and the selfless Americans who serve our communities in need across our country and around the world.

Since its founding in 1881 by Clara Barton, a nurse and educator, the American Red Cross has carried out its noble mission of preventing and easing human suffering. Today, in big cities and small towns across the country, hundreds of thousands of Red Cross workers—more than 90 percent of whom are volunteers—continue to carry out that mission by selflessly giving blood, making donations, and teaching first aid in local communities.

Support from the American Red Cross has provided hope to people in their darkest hours—in the face of armed conflict, climate-related disasters, and the COVID-19 pandemic. Red Cross volunteers are on the front lines of recovery, providing emergency shelter to families impacted by devastating floods, tornadoes, fires, and other disasters; donating lifesaving blood to meet the rising demand of hospital patients; supporting our Nation's service members, veterans, and their families; and providing medical care and essential resources to combat diseases worldwide.

During American Red Cross Month, Americans who can are encouraged to answer the call to donate blood and serve communities in need. You are encouraged to learn more about eligibility and the steps involved to donating blood. Let us renew our commitment to Clara Barton's timeless ideal of caring for one another in times of hardship and uncertainty. Let us take part in this proud tradition of lending a helping hand to those in need. Let us live up to the duty of care we owe each other through acts of compassion every day.

NOW, THEREFORE, I, JOSEPH R. BIDEN JR., President of the United States of America and Honorary Chair of the American Red Cross, by virtue of the authority vested in me by the Constitution and the laws of the United States, do hereby proclaim March 2022 as American Red Cross Month. I encourage all Americans to observe this month with appropriate programs, ceremonies and activities, and by supporting the work of service and relief organizations.

IN WITNESS WHEREOF, I have hereunto set my hand this twenty-eighth day of February, in the year of our Lord two thousand twenty-two, and of the Independence of the United States of America the two hundred and forty-sixth.

[FR Doc. 2022-04610

Filed 3-2-22; 8:45 am]

Billing code 3395-F2-P